FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202)-523-5793 or tradeanalysis@fmc.gov.

Agreement No.: 012057-003.

Title: CMA CGM/Maersk Line Space Charter, Sailing and Cooperative Working Agreement Asia to USEC and PNW-Suez/PNW & Panama Loops.

Parties: A.P. Moller-Maersk A/S and CMA CGM S.A.

Filing Party: Wayne R. Rohde, Esq.; Sher and Blackwell LLP; 1850 M Street, NW., Suite 900; Washington, DC 20036.

Synopsis: The amendment would add Hyundai Merchant Marine Co., Ltd. as a party to the agreement, delete Singapore from the geographic scope, make adjustments in vessel provision, revise the duration of the agreement, and restate the agreement. The parties request expedited review.

By Order of the Federal Maritime Commission.
Dated: April 24, 2009.
Karen V. Gregory,
Secretary.

[FR Doc. E9-9841 Filed 4-29-09; 8:45 am]

BILLING CODE 6730-01-P